DEPARTMENT OF DEFENSE

Department of the Air Force

Notice of Intent To Prepare an Environmental Impact Statement for T-7A Recapitalization at Vance Air Force Base, Oklahoma

AGENCY: Department of the Air Force, Department of Defense.

ACTION: Notice of Intent.

SUMMARY: The Department of the Air Force (DAF) is issuing this Notice of Intent (NOI) to prepare an Environmental Impact Statement (EIS) to assess the potential social, economic, and environmental impacts associated with T-7A Recapitalization at Vance Air Force Base (AFB), Oklahoma. The EIS will analyze the potential impacts from introduction of T-7A aircraft and flight operations at Vance AFB and associated airspace; changes to the number of personnel and dependents in the Vance AFB region; and construction and upgrade of operations, support, and maintenance facilities.

DATES: A public scoping period of 30 days will take place starting from the date of publication of this NOI in the Federal Register. Comments will be accepted at any time during the environmental impact analysis process; however, to ensure DAF has sufficient time to consider public scoping comments during preparation of the Draft EIS, please submit comments within the 30-day scoping period. The Draft EIS is anticipated in early 2025. The Final EIS and a decision on which alternative to implement is expected later in 2025.

DAF invites the public, stakeholders, and other interested parties to attend a public scoping meeting. Two in-person public scoping meetings will be held from 4 to 7 p.m. on 25 and 26 June 2024. The location of both meetings will be at the Autry Technology Center (1201 W Willow Road, Enid, OK 73703) and information provided at the meetings will be available on the project website (https://vance.t-7anepadocuments.com/). Attendees of the public scoping meeting will have the opportunity to submit written comments. The scheduled date and time for the public scoping meeting will also be published in local media (Enid News & Eagle) a minimum of 15 days prior to the meeting.

ADDRESSES: The project website (https://vance.t-7anepadocuments.com/) provides additional information on the EIS and can be used to submit scoping comments. Scoping comments may also be submitted via email to chinling.chen@us.af.mil or via postal mail to Ms. Chinling Chen, AFCEC/CIE; Attn: Vance AFB T-7A Recapitalization EIS; Headquarters AETC Public Affairs; 100 H East Street, Suite 4; Randolph AFB, TX 78150. Please submit inquiries or requests for printed or digital copies of the scoping materials via the email or postal address above or contact the AETC Public Affairs office by phone at 210-652-4400. For printed material requests, the standard U.S. Postal Service shipping timeline will apply. Scoping materials are also available in print at the Enid Public Library at 120 W Maine Avenue, Enid, Oklahoma.

SUPPLEMENTARY INFORMATION: The purpose of the proposed action is to continue the T-7A recapitalization program to prepare pilots to operate modern fourth and fifth generation aircraft. The need for the proposed action is to provide infrastructure and training systems to support the newer T-7A aircraft, allow for enhanced and improved flight and simulator training, and ensure DAF pilot training requirements are met.

Recapitalization entails introduction of T-7A aircraft and flight operations at Vance AFB to replace all T-38C aircraft assigned to the installation; nighttime (between 10 p.m. and 7 a.m.) flight operations; temporary changes to the number of personnel and dependents in the Vance AFB region during the 2-year transition period; and construction and upgrade of support and maintenance facilities. DAF is considering three alternatives to implement the Proposed Action and the No Action Alternative. For Alternative 1, Vance AFB would receive up to 68 T-7A aircraft and phase in T-7A operations at a level sustaining pilot training while simultaneously phasing out the T-38C. A temporary increase of approximately 100 personnel is projected. Several construction projects including (MILCON) projects, unspecified minor military construction (UMMC) projects, and facilities sustainment, restoration, and modernization would potentially occur at Vance AFB to provide modern facilities and infrastructure to support T-7A aircraft maintenance, training, and operational requirements.

For Alternative 2, Vance AFB would receive up to 68 T-7A aircraft and perform T-7A operations at a level that is approximately 25 percent greater than Alternative 1. Alternative 2 is intended to cover a scenario in which, for either broad strategic or tactical operational reasons, DAF requires a surge or increase in pilot training operations above current plan. The number of T-7A aircraft arriving at Vance AFB and timeline of increased aircraft operations, new and renovated facilities, and personnel changes would be the same as described for Alternative 1. For Alternative 2, beginning in 2032, T-7A aircraft would perform annual operations at Vance AFB and associated SUA at an operational tempo that is 25 percent greater than Alternative 1. T-7A nighttime operations would occur with up to 873 annual nighttime operations at Vance AFB.

For Alternative 3, Vance AFB would receive up to 99 T-7A aircraft and perform annual operations approximately 45% greater than Alternative 1 once the aircraft transition is complete. Alternative 3 is intended to provide DAF with operational flexibility, and inclusion of this alternative in this EIS provides analysis to evaluate future capacity needs.

For the No Action Alternative, DAF would not implement T-7A recapitalization at Vance AFB. If the No Action Alternative were implemented, the T-7A aircraft disposition would be determined separately. Vance AFB's existing fleet of T-38C aircraft would continue to be used in their current capacity even though they will reach the end of their service lives within the next decade.

DAF anticipates potential for increased air emissions, particularly nitrogen oxides, and increased noise from the Proposed Action. Increased noise could have a disproportionate impact on environmental justice populations and impact off-installation land use compatibility. The EIS will model air emissions, noise levels, and the number of disturbance events, that would result from implementation of the proposed action and alternatives and compare them to current conditions. DAF will also consult with appropriate resource agencies and Native American tribes to determine the potential for significant impacts. Consultation will be incorporated into the preparation of the EIS and will include, but not be limited to, consultation under Section 7 of the Endangered Species Act and consultation under Section 106 of the National Historic Preservation Act.

Scoping and Agency Coordination: To identify important environmental issues deserving of study and to deemphasize unimportant issues, narrowing the scope of the environmental impact statement process, DAF is soliciting comments from interested Federal, State, Tribal, and local, officials and agencies, as well as likely affected or interested members of the public. Comments are requested on alternatives and effects, as well as on relevant information, studies, or analyses with respect to the proposed action.

Tommy W. Lee,
Acting Air Force Federal Register Liaison Officer.

[FR Doc. 2024-12131 Filed 6-3-24; 8:45 am]

BILLING CODE 3911-44-P